NUCLEAR REGULATORY COMMISSION

[Docket Nos. 50-498 and 50-499; License Nos. NPF-76 and NPF-80]

STP Nuclear Operating Company; Notice of Issuance of Director's Decision Under 10 CFR 2.206

Notice is hereby given that the Director, Office of Nuclear Reactor Regulation, has issued a director's decision with regard to a petition dated May 16, 2006, filed by Mr. Glenn Adler on behalf of Service Employees International Union, hereinafter referred to as the Petitioner. The petition was supplemented by letter dated June 26, 2006, and provided to the U.S. Nuclear Regulatory Commission (NRC) during a meeting with the agency's petition review board (PRB) on June 27, 2006. Transcripts of the meeting are available, as an attachment to the PRB meeting summary, via the Agencywide Documents Access and Management System (ADAMS) on the agency's Web site at http://www.nrc.gov/reading-rm/adams.html and for inspection at the NRC Public Document Room, located at One White Flint North, Public File Area 01 F21, 11555 Rockville Pike (first floor), Rockville, Maryland. The petition concerns the operation of the South Texas Project (STP) Electric Generating Station, Units 1 and 2.

The Petitioner requested that the NRC issue a demand for information (DFI) to STP Nuclear Operating Company (STPNOC), licensee for STP, to provide the results of assessments of the safety-conscious work environment (SCWE) at STP conducted since January 1, 2004; summaries of action plans and results of actions to remedy the problems revealed by the assessments, including documents mentioned at an August 2005 meeting convened to discuss the STP SCWE; summaries of action plans and results of efforts to remedy problems revealed by such assessments in 2001 and 2003; and all correspondence between the NRC, STPNOC, and Wackenhut Corporation concerning the 2001, 2003, and 2005 comprehensive cultural surveys (CCAs).

As the basis for the petition, the Petitioner stated that, in 1998 the NRC found that STP had violated Federal law by subjecting four employees to a “hostile work environment” after the employees raised safety concerns. The Petitioner noted that the NRC issued an order requiring STP to hire an independent contractor to conduct periodic CCAs.

The Petitioner stated that the licensee hired Synergy Consulting Services Corporation. The Wackenhut Corporation took over security at STP in July 2001, after winning a 3-year contract for security, with an option for 2 additional years. The Petitioner further noted that in the 2001 and 2003 CCAs, Wackenhut scored poorly on independent surveys assessing the STPNOC nuclear safety culture, SCWE, general culture and work environment, leadership, management, and supervisory skills and practices.

The Petitioner stated that, despite apparently repeated efforts by STPNOC to remedy the poor performance of Wackenhut, a more recent survey revealed that Wackenhut's performance problems continued, as indicated in the 2005 CCA, and that the STPNOC action plans apparently were not successful with respect to Wackenhut and other entities.

The Petitioner stated that obtaining the documents it identified will facilitate the NRC to be better informed about improvement in the licensee's SCWE at STPNOC. In addition, the NRC will be better able to assess the effectiveness of previous steps taken with Wackenhut and other entities for whom problems persisted, despite repeated efforts to remedy them.

On June 27, 2006, the Petitioner and the licensee's attorney met with the staff's PRB. The meeting gave the Petitioner and the licensee's attorney an opportunity to provide additional information and to clarify issues raised in the petition. The summary of the meeting and its transcript are available in ADAMS, as stated above.

On November 21, 2006, the NRC sent a copy of the proposed director's decision to the Petitioner and the licensee for comment. At the request of the Petitioner, the NRC extended the end of the comment period from December 21, 2006, to January 12, 2007. However, the NRC staff did not receive any comments. The NRC has included the latest update of the results of its ongoing oversight at STP, and made some editorial changes to the text of this director's decision.

The director's decision [DD-07-01] explains the reasons for this decision pursuant to Title 10 of the Code of Federal Regulations (10 CFR), Section 2.206, the complete text of which is available on the agency's Web site via ADAMS and at the Commission's Public Document Room, located at One White Flint North, Public File Area O1 F21, 11555 Rockville Pike (first floor), Rockville, Maryland, and from the ADAMS Public Library component on the NRC's Web site, http://www.nrc.gov/reading-rm.html (the Public Electronic Reading Room).

The NRC staff denied the Petitioner's request for a DFI to STPNOC. Issuance of a DFI is not warranted because the NRC has already reviewed and has ready access to all the information for which the Petitioner had requested a DFI. NRC has also denied your request to docket the documents for which you requested DFI. The NRC will docket only documents which are submitted to the NRC. However, NRC is denying your request for a DFI, and NRC did not require submission of the documents in its Confirmatory Order Modifying License (Effective Immediately) of June 9, 1998. Instead, STPNOC maintains the documents for ready access by the NRC at the site.

A copy of the director's decision will be filed with the Secretary of the Commission for the Commission's review in accordance with 10 CFR 2.206 of the Commission's regulations. As provided for by this regulation, the director's decision will constitute the final action of the Commission 25 days after the date of the decision, unless the Commission, on its own motion, institutes a review of the director's decision in that time.

Dated at Rockville, Maryland, this 24th day of February 2007.
For the Nuclear Regulatory Commission.
J.E. Dyer,
Director, Office of Nuclear Reactor Regulation.

[FR Doc. E7-3827 Filed 3-5-07; 8:45 am]

BILLING CODE 7590-01-P